DEPARTMENT OF HEALTH AND HUMAN SERVICES

Administration for Children and Families

[OMB #: 0970-0433]

Proposed Information Collection Activity; Plan for Foster Care and Adoption Assistance—Title IV-E

AGENCY: Children's Bureau, Administration for Children and Families, U.S. Department of Health and Human Services.

ACTION: Request for public comments.

SUMMARY: The Administration for Children and Families (ACF) is requesting a 3-year extension and revisions to the Plan for Foster Care and Adoption Assistance—Title IV-E, (OMB#: 0970-0433, expiration July 31, 2025). This plan also incorporates the plan requirements for the optional guardianship assistance, Title IV-E prevention services and the Title IV-E kinship navigator programs.

DATES: Comments due July 7, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: A title IV-E plan is required by section 471, part IV-E of the Social Security Act (the Act) for each public child welfare agency requesting federal funding under the Act for foster care and adoption assistance, as well as for the optional guardianship assistance, kinship navigator and prevention services programs. Section 479B of the Act provides for an Indian tribe, tribal organization or tribal consortium (tribe) to operate a title IV-E program in the same manner as a state with minimal exceptions. The tribe must have an approved title IV-E Plan.

The title IV-E plan provides assurances the programs will be administered in conformity with the specific requirements stipulated in title IV-E. The plan must include all applicable state or tribal statutory, regulatory, or policy references and citations for each requirement as well as supporting documentation. A title IV-E agency may use the pre-print format prepared by the Children's Bureau or a different format, on the condition that the format used includes all the title IV-E plan requirements of the law.

Section A of the title IV-E plan pre-print addresses requirements for the Foster Care, Adoption Assistance and optional Guardianship Assistance and Kinship Navigator programs. For these programs, the plan submission remains in effect until amendments are required due either to changes in federal requirements or agency operations.

Section B of the title IV-E plan pre-print addresses requirements for the Prevention Services program. This program requires a plan submission every five years, and amendments as needed.

Both sections of the title IV-E preprint include minor revisions to reflect recent changes in statutory, regulatory and policy requirements or options and to remove outdated information. All revisions in policy and requirements have been communicated to title IV-E agencies through prior policy issuances.

Revisions in Section A include:

• Updates to provisions relating to children missing from foster care, enacted through Public Law 117-348, the Trafficking Victims Prevention and Protection Reauthorization Act of 2022; and

• Updates to requirements and flexibilities for relative and kin foster care homes, including allowing separate licensing standards for relative and kin foster homes

Revisions in Section B include:

• A streamlined approach for title IV-E agencies to request renewal of a previously approved 5-year plan; and

• Revisions reflecting additional flexibilities in program requirements for tribes participating in the program through an agreement with another title IV-E agency.

Respondents: State, territorial and tribal title IV-E agencies.

Annual Burden Estimates

Respondents complete and submit a IV-E plan or plan amendment as needed for the foster care, adoption assistance and guardianship assistance programs; and a IV-E plan attachment as needed for the kinship navigator program. Respondents must complete and submit the plan for the prevention program every five years, and amendments as needed. Burden estimates below reflect an estimated total burden for a 3-year period divided by three to provide an annual estimate. ACF estimates that over the 3-year period 54 respondents will submit a new or amended title IV-E plan for the foster care, adoption assistance, and guardianship assistance programs; 48 respondents will submit new or amended prevention plans; and 15 respondents will submit new or amended title IV-E kinship navigator plan attachments.

Instrument | Total number of respondents | Total number of responses per respondent | Average burden hours per response | Total burden hours | Annual burden hours
Title IV-E Plan | 54 | 1 | 16 | 864 | 288
Title IV-E prevention services plan | 48 | 1 | 5 | 240 | 80
Attachment to Title IV-E plan for Kinship Navigator Program | 15 | 1 | 1 | 15 | 5

Estimated Total Annual Burden Hours: 373.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 5106(b)(5); 42 U.S.C. 5113(b)(4); 42 U.S.C. 629h.

Mary C. Jones,
ACF/OPRE Certifying Officer.

[FR Doc. 2025-07836 Filed 5-5-25; 8:45 am]

BILLING CODE 4184-25-P